DEPARTMENT OF COMMERCE

International Trade Administration

Notice of Allocation of Tariff Rate Quotas (TRQ) on the Import of Certain Worsted Wool Fabrics for Calendar Year 2013

AGENCY: International Trade Administration, Department of Commerce.

ACTION: Notice of allocation of 2013 worsted wool fabric tariff rate quota.

SUMMARY: The Department of Commerce (Department) has determined the allocation for Calendar Year 2013 of imports of certain worsted wool fabrics under tariff rate quotas established by Title V of the Trade and Development Act of 2000 (Pub. L. 106-200), as amended by the Trade Act of 2002 (Pub. L. 107-210), the Miscellaneous Trade Act of 2004 (Pub. L. 108-249), and the Pension Protection Act of 2006 (Pub. L. 109-280), and further amended pursuant to the Emergency Economic Stabilization Act of 2008 (Pub. L. 110-343). The companies that are being provided an allocation are listed below.

FOR FURTHER INFORMATION CONTACT: Laurie Mease, Office of Textiles and Apparel, U.S. Department of Commerce, (202) 482-2043.

SUPPLEMENTARY INFORMATION: Background: Title V of the Trade and Development Act of 2000, as amended by the Trade Act of 2002, the Miscellaneous Trade Act of 2004, the Pension Protection Act of 2006, and the Emergency Economic Stabilization Act of 2008, creates two tariff rate quotas, providing for temporary reductions in the import duties on two categories of worsted wool fabrics suitable for use in making suits, suit-type jackets, or trousers. For worsted wool fabric with average fiber diameters greater than 18.5 microns (Harmonized Tariff Schedule of the United States (HTSUS) heading 9902.51.11), the reduction in duty is limited to 5,500,000 square meters in 2013. For worsted wool fabric with average fiber diameters of 18.5 microns or less (HTSUS heading 9902.51.15), the reduction is limited to 5,000,000 square meters in 2013. The Miscellaneous Trade Act of 2004 requires the President to ensure that such fabrics are fairly allocated to persons (including firms, corporations, or other legal entities) who cut and sew men's and boys' worsted wool suits and suit-like jackets and trousers in the United States and who apply for an allocation based on the amount of such suits cut and sewn during the prior calendar year. Presidential Proclamation 7383, of December 1, 2000, authorized the Secretary of Commerce to allocate the quantity of worsted wool fabric imports under the tariff rate quotas.

The Miscellaneous Trade Act also authorized Commerce to allocate a new HTS category, HTS 9902.51.16. This HTS refers to worsted wool fabric with average fiber diameter of 18.5 microns or less. The amendment further provides that HTS 9902.51.16 is for the benefit of persons (including firms, corporations, or other legal entities) who weave worsted wool fabric in the United States. For HTS 9902.51.16, the reduction in duty is limited to 2,000,000 square meters in 2013.

On January 22, 2001 the Department published interim regulations establishing procedures for applying for, and determining, such allocations (66 FR 6459, 15 CFR 335). These interim regulations were adopted, without change, as a final rule published on October 24, 2005 (70 FR 61363). On September 21, 2012, the Department published notices in the Federal Register (77 FR 58524-26) soliciting applications for an allocation of the 2013 tariff rate quotas with a closing date of October 22, 2012. The Department received timely applications for the HTS 9902.51.11 tariff rate quota from 10 firms. The Department received timely applications for the HTS 9902.51.15 tariff rate quota from 15 firms. The Department received a timely application for the HTS 9902.51.16 tariff rate quota from 1 firm. All applicants were determined eligible for an allocation. Most applicants submitted data on a business confidential basis. As allocations to firms were determined on the basis of this data, the Department considers individual firm allocations to be business confidential.

Firms That Received Allocations

HTS 9902.51.11, fabrics, of worsted wool, with average fiber diameter greater than 18.5 micron, certified by the importer as suitable for use in making suits, suit-type jackets, or trousers (provided for in subheading 5112.11.60 and 5112.19.95). Amount allocated: 5,500,000 square meters.

Companies Receiving Allocation

Adrian Jules Ltd.—Rochester, NY

Gil Sewing Corp.—Chicago, IL

HMX, LLC—New York, NY

Hugo Boss Fashions, Inc.—Brooklyn, OH

J.A. Apparel Corp.—New York, NY

John H. Daniel Co.—Knoxville, TN

Miller's Oath—New York, NY

Saint Laurie Ltd.—New York, NY

Tom James Co.—Franklin, TN

Warren Sewell Clothing Co., Inc.—Bremen, GA

HTS 9902.51.15, fabrics, of worsted wool, with average fiber diameter of 18.5 micron or less, certified by the importer as suitable for use in making suits, suit-type jackets, or trousers (provided for in subheading 5112.11.30 and 5112.19.60). Amount allocated: 5,000,000 square meters.

Companies Receiving Allocation

Adrian Jules Ltd.—Rochester, NY

Brooks Brothers Group—New York, NY

Elevee Custom Clothing—Van Nuys, CA

Gil Sewing Corp.—Chicago, IL

HMX, LLC—New York, NY

Hugo Boss Fashions, Inc.—Brooklyn, OH

J.A. Apparel Corp.—New York, NY

John H. Daniel Co.—Knoxville, TN

Martin Greenfield Clothiers—Brooklyn, NY

Miller's Oath—New York, NY

Saint Laurie Ltd.—New York, NY

Shelton and Company—East Rutherford, NJ

Southwick Apparel LLC—Haverhill, MA

Tom James Co.—Franklin, TN

Warren Sewell Clothing Co., Inc.—Bremen, GA

HTS 9902.51.16, fabrics, of worsted wool, with average fiber diameter of 18.5 micron or less, certified by the importer as suitable for use in making men's and boy's suits (provided for in subheading 5112.11.30 and 5112.19.60). Amount allocated: 2,000,000 square meters.

Companies Receiving Allocation

Warren Corporation—Stafford Springs, CT

Dated: January 22, 2013.
Kim Glas,
Deputy Assistant Secretary for Textiles and Apparel

[FR Doc. 2013-01703 Filed 1-25-13; 8:45 am]

BILLING CODE 3510-DS-P